DEPARTMENT OF THE INTERIOR

Bureau of Land Management

[NV-030-1430-EU; N-75369]

Notice of Realty Action: Competitive Sale of Public Land and Partial Termination of Recreation and Public Purposes Classifications in Douglas County, NV

AGENCY: Bureau of Land Management, Interior.

ACTION: In accordance with section 7 of the Taylor Grazing Act, 43 U.S.C. 315f, and Executive Order No. 6910, the described lands are classified for disposal by sale. The following public land has been examined and found suitable for disposal by method of competitive sale pursuant to section 203 and section 209 of the Federal Land Policy and Management Act of 1976 (FLPMA) (90 Stat. 2750, 43 U.S.C. 1713 and 1719) at not less than the appraised fair market value (FMV).

Mount Diablo Meridian

T. 14 N., R. 20 E.,

Sec. 5, NE¼NW¼W½ of lot 1 of NW¼, W½NW¼W½ of lot 1 of NW¼, NE¼SW¼W½ of lot 1 of NW¼, W½SW¼W½ of lot 1 of NW¼, lots 5-8, 13 and 16, and NW¼NW¼SW¼, N½SW¼NW¼SW¼, and SW¼SW¼NW¼SW¼;

Sec. 6, N½NE¼E½ of lot 1 of NE¼, SE¼NE¼E½ of lot 1 of NE¼, NE¼NW¼E½ of lot 1 of NE¼, SE¼SW¼E½ of lot 1 of NE¼, SE¼E½ of lot 1 of NE¼, lots 3 and 4, 9-13, 16-18, and 20, and E½NE¼SE¼, SE¼NW¼NE¼SE¼, S½SW¼NE¼SE¼, NE¼SE¼SE¼, S½NW¼SE¼SE¼, and N½SW¼SE¼SE¼.

Comprising 146 acres, more or less.

Upon publication of this notice the land described is hereby segregated from appropriation under the public land laws, including the mining laws, but not from disposal by sale under the above cited statutes for 270 days from publication of this notice in the Federal Register, or until title transfer is completed, whichever occurs first. On April 16, 2002, this land was segregated from appropriation under the public land laws for exchange. The exchange segregation is herein terminated, affecting the described land, and is replaced by the sale segregation in this notice as published. The public land will remain closed to appropriation under the public land laws. The subject land meets sale criteria under Section 203 of FLPMA and is identified for disposal from federal ownership in the Carson City Consolidated Resource Management Plan and the North Douglas Specific Area Plan Amendment. Previous classifications for Recreation and Public Purposes under case numbers N-3742, N-3743 and N-12656, as they affect the described land, are no longer appropriate and are hereby terminated. In addition, the subject land is relieved of the segregative effect of those classifications. Proceeds from the sale will be deposited and expended in accordance with the Federal Land Transaction Facilitation Act, Pub. L. 106-248.

Conveyance of the available mineral interests will occur simultaneously with the sale of the land. The mineral interests being offered for sale have no known mineral value. Acceptance of a sale offer will constitute an application for conveyance of those mineral interests. In conjunction with the final payment, the applicant will be required to pay a $50.00 non-refundable filing fee for processing the conveyance of the mineral interests.

Patent (title document), will be issued with a reservation for a right-of-way for ditches and canals constructed by the authority of the United States under the Act of August 30, 1890 (43 U.S.C. 945), and will be subject to valid existing rights, including rights to Douglas County for Topsy Lane and the following encumbrances of record:

(1) Those rights for highway purposes which have been granted to Nevada Department of Transportation by Right-of-Way CC-018400, and its assigns, under the Act of November 9, 1921 (42 Stat. 216).

(2) Those rights for gas pipeline purposes which have been granted to Paiute Pipeline Company, and its assigns, by Right-of-Way Nev-064632 and N-17001 under the Act of February 25, 1920 (41 Stat. 0437; 30 U.S.C. 185, sec. 28).

(3) Those rights for communication line purposes which have been granted to Verizon California, Inc., and its assigns, by Right-of-Way N-353 under the Act of March 4, 1911 (36 Stat. 1253; 43 U.S.C. 961) and Rights-of-Way N-16649, N-32152 and N-40377 under the Act of October 21, 1976 (90 Stat. 2776; 43 U.S.C. 1761).

(4) Those rights for electric line purposes which have been granted to Sierra Pacific Power Company, and its assigns, by Rights-of-Way N-7836 and N-11602 under the Act of March 4, 1911 (36 Stat. 1253; 43 U.S.C. 961).

(5) Those rights for access road purposes which have been granted to Hilltop Community Church, and its assigns, by Right-of-Way N-39139 under the Act of October 21, 1976 (90 Stat. 2776; 43 U.S.C. 1761).

(6) Those rights for access road, utility line and gas line purposes which have been granted to Richard and Hazel Wheaton, and their assigns, by Right-of-Way N-56235 under the Act of October 21, 1976 (90 Stat. 2776; 43 U.S.C. 1761) and Right-of-Way N-75420 under the Act of February 25, 1920 (41 Stat. 0437; 30 U.S.C. 185, sec. 28).

(7) Those rights for access road and utility line purposes which have been granted to Douglas County, and its assigns, by Right-of-Way N-56768 under the Act of October 21, 1976 (90 Stat. 2776; 43 U.S.C. 1761).

(8) Those rights for access road purposes which have been granted to Norman and Betty Metcalf and Anne Sullivan, and their assigns, by Right-of-Way N-56867 under the Act of October 21, 1976 (90 Stat. 2776; 43 U.S.C. 1761).

(9) Those rights for gas line purposes which have been granted to Southwest Gas Corporation, and its assigns, by Right-of-Way N-59816 under the Act of February 25, 1920 (41 Stat. 0437; 30 U.S.C. 185, sec. 28).

The purchaser/patentee, by accepting a patent, agrees to indemnify, defend, and hold the United States harmless from any costs, damages, claims, causes of action, penalties, fines, liabilities, and judgments of any kind or nature arising from the past, present, and future acts or omissions of the patentee or their employees, agents, contractors, or lessees, or any third-party, arising out of or in connection with the patentee's use, occupancy, or operations on the patented real property. This indemnification and hold harmless agreement includes, but is not limited to, acts and omissions of the patentee and their employees, agents, contractors, or lessees, or any third party, arising out of or in connection with the use and/or occupancy of the patented real property which has already resulted or does hereafter result in: (1) Violations of federal, state, and local laws and regulations that are now or may in the future become, applicable to the real property; (2) Judgments, claims or demands of any kind assessed against the United States; (3) Costs, expenses, or damages of any kind incurred by the United States; (4) Other releases or threatened releases of solid or hazardous waste(s) and/or hazardous substances(s), as defined by federal or state environmental laws; off, on, into or under land, property and other interests of the United States; (5) Other activities by which solids or hazardous substances or wastes, as defined by federal and state environmental laws are generated, released, stored, used or otherwise disposed of on the patented real property, and any cleanup response, remedial action or other actions related in any manner to said solid or hazardous substances or wastes; or (6) Natural resource damages as defined by federal and state law. This covenant shall be construed as running with the patented real property and may be enforced by the United States in a court of competent jurisdiction.

The land will be offered by method of competitive sale through sealed bid and at oral auction. All sealed bids must be received at the BLM Carson City Field Office, 5665 Morgan Mill Road, Carson City, NV 89701, no later than 4:15 p.m., PST, December 6, 2002. Sealed bid envelopes must be marked on the lower front left corner, “Bid for Land Sale N-75369, December 10, 2002”. Bids must be for not less than the appraised FMV of $6,500,000.00. Each sealed bid shall be accompanied by a certified check, money order, bank draft, or cashier's check made payable to the Bureau of Land Management, for not less than 10 percent of the amount bid. The highest qualified sealed bid will become the starting bid for oral bidding. If no sealed bids are received, oral bidding will begin at the appraised FMV. The land will be offered for competitive sale by oral auction beginning at 10:00 a.m., PST, December 10, 2002, at the Douglas County Administration Building, 1616 8th Street, Minden, Nevada 89423. Registration for oral bidding will begin at 8:30 a.m. the day of sale and will continue throughout the auction. All oral bidders are required to register. The highest qualifying bid, whether sealed or oral, will be declared the high bid. The apparent high bidder, must submit the required bid deposit immediately following the close of the sale in the form of cash, personal check, bank draft, certified check, cashier's check, money order or any combination thereof, made payable to the Bureau of Land Management, for not less than 20 percent of the amount bid. The remainder of the full bid price, whether sealed or oral, must be paid within 180 calendar days of the sale date. Failure to submit sufficient funds for the bid deposit or failure to pay the full price within the 180 days will disqualify the apparent high bidder and cause the entire bid deposit to be forfeited to the BLM. The land will then be offered to the next highest bidder that meets sale qualifications. If that offer is declined, the land may be offered for sale on the Internet at a later date. Contact the Carson City BLM Field Office for Internet auction procedures.

Federal law requires bidders to be U.S. citizens 18 years of age or older; a corporation subject to the laws of any State or of the United States; a State, State instrumentality, or political subdivision authorized to hold property; or an entity including, but not limited to, associations or partnerships capable of holding property or interests therein under the law of the State of Nevada. Certification of qualification, including citizenship or corporation or partnership, must accompany the bid deposit. The BLM may not issue a patent or deed to a person other than the declared successful bidder and qualified conveyee or patentee in a disposal action.

In order to determine the fair market value of the subject public land through appraisal, certain assumptions have been made of the attributes and limitations of the land and potential effects of local regulations and policies on potential future land uses. Through publication of this notice, the Bureau of Land Management gives notice that these assumptions may not be endorsed or approved by units of local government. Furthermore, no warranty of any kind shall be given or implied by the United States as to the potential uses of the land offered for sale, and conveyance of the subject land will not be on a contingency basis. It is the buyers' responsibility to be aware of all applicable local government policies and regulations that would affect the subject land. It is also the buyers' responsibility to be aware of existing or projected use of nearby properties. When conveyed out of federal ownership, the land will be subject to any applicable reviews and approvals by the respective unit of local government for proposed future uses, and any such reviews and approvals would be the responsibility of the buyer. Portions of the land are adjacent to U.S. Highway 395 and the land is accessible from Topsy Lane and North Sunridge Drive.

Detailed information concerning the sale, including reservations, sale procedures and conditions, and planning and environmental documents, is available for review at the Bureau of Land Management, Carson City Office, 5665 Morgan Mill Road, Carson City, NV 89701, or by calling (775) 885-6115. For a period of 45 days from the date of publication of this notice in the Federal Register, the general public and interested parties may submit comments to the Manager, Carson City Field Office, 5665 Morgan Mill Road, Carson City, Nevada 89701. Any adverse comments will be reviewed by the State Director, who may sustain, vacate, or modify this realty action in whole or in part. In the absence of any adverse comments, this realty action will become the final determination of the Department of Interior. The Bureau of Land Management may accept or reject any or all offers, or withdraw any land or interest in the land from sale, if, in the opinion of the authorized officer, consummation of the sale would not be fully consistent with FLPMA or other applicable laws or is determined to not be in the public interest. Any comments received during this process, as well as the commentator's name and address, will be available to the public in the administrative record and/or pursuant to a Freedom of Information Act request. You may indicate for the record that you do not wish your name and/or address be made available to the public. Any determination by the Bureau of Land Management to release or withhold the names and/or addresses of those who comment will be made on a case-by-case basis. A commentator's request to have their name and/or address withheld from public release will be honored to the extent permissible by law.

The land will not be offered for sale until at least 60 days after the date of publication of this notice in the Federal Register.

Dated: September 18, 2002.
John O. Singlaub,
Manager, Carson City Field Office.

[FR Doc. 02-26171 Filed 10-9-02; 1:36 pm]

BILLING CODE 4310-HC-P